DEPARTMENT OF TRANSPORTATION

Federal Aviation Administration

14 CFR Part 25

[Docket No.: FAA-2014-0001; Amdt. No. 25-142]

RIN 2120-AK29

Harmonization of Airworthiness Standards—Fire Extinguishers and Class B and F Cargo Compartments; Correction

AGENCY: Federal Aviation Administration (FAA), DOT.

ACTION: Final rule; correction.

SUMMARY: The FAA is correcting a final rule published on February 16, 2016. In that rule, the FAA amended certain airworthiness regulations for transport category airplanes by upgrading fire safety standards for Class B cargo compartments; establishing fire safety standards for a new type of cargo compartment, Class F; and updating related standards for fire extinguishers. This amendment eliminated certain regulatory differences between the airworthiness standards of the FAA and the European Aviation Safety Agency (EASA), without affecting current industry design practices. However, in that document, the amendment number for the final rule was incorrect, and this document now posts the correct amendment number.

DATES: This correction is effective on March 2, 2016.

FOR FURTHER INFORMATION CONTACT: For technical questions concerning this action, contact Stephen M. Happenny, Propulsion/Mechanical Systems Branch, ANM-112, Transport Airplane Directorate, Aircraft Certification Service, Federal Aviation Administration, 1601 Lind Ave. SW., Renton, WA 98055-4056; telephone (425) 227-2147; facsimile (425) 227 1232; email: stephen.happenny@faa.gov.

SUPPLEMENTARY INFORMATION:

Background

On February 16, 2016 (81 FR 7698), the FAA published a final rule entitled, “Harmonization of Airworthiness Standards—Fire Extinguishers and Class B and F Cargo Compartments” (81 FR 7698).

This rule amended certain airworthiness regulations for transport category airplanes by upgrading fire safety standards for Class B cargo compartments; establishing fire safety standards for a new type of cargo compartment, Class F; and updating related standards for fire extinguishers. The rule was based on recommendations from the Aviation Rulemaking Advisory Committee (ARAC) and the National Transportation Safety Board (NTSB), and the changes addressed designs for which airworthiness directives (ADs) have been issued by both the FAA and the French civil aviation authority, Direction Générale de l'Aviation Civile (DGAC). It eliminated certain regulatory differences between the airworthiness standards of the FAA and EASA, without affecting current industry design practices. These changes ensured an acceptable level of safety for these types of cargo compartments by standardizing certain requirements and procedures.

However, the rule was published with an incorrect amendment number, “25-141,” which is the same amendment number as the rule entitled “Harmonization of Airworthiness Standards—Gust and Maneuver Load Requirements” (79 FR 73462), published on December 11, 2014. The correct amendment number for this rule should be “25-142.”

Correction

In FR Doc. 2016-03000, beginning on page 7698 in the Federal Register of February 16, 2016, make the following correction:

Correction

1. On page 7698, in the third column, correct the 4th header paragraph from “[Docket No.: FAA-2014-0001; Amdt. No. 25-141]” to read as “[Docket No.: FAA-2014-0001; Amdt. No. 25-142]”.

Issued under authority provided by 49 U.S.C. 106(f) in Washington, DC, on February 24, 2016.
Lirio Liu,
Director, Office of Rulemaking.

[FR Doc. 2016-04508 Filed 3-1-16; 8:45 am]

BILLING CODE 4910-13-P